NUCLEAR REGULATORY COMMISSION

[Docket 72-17]

Portland General Electric Company Issuance of Environmental Assessment and Finding of No Significant Impact Regarding the Proposed Amendment to Materials License No. SNM-2509

The U.S. Nuclear Regulatory Commission (NRC or Commission) is considering issuance of an amendment, pursuant to 10 CFR 72.56, to Special Nuclear Material License No. 2509 (SNM-2509) held by Portland General Electric Company (PGE) for the Trojan Independent Spent Fuel Storage Installation (ISFSI). The requested amendment would revise the ISFSI license (SNM-2509) and the Technical Specifications (TS) of SNM-2509 to increase the Multi-Purpose Canister (MPC) helium backfill upper pressure limit at the Trojan ISFSI.

Environmental Assessment (EA)

Identification of Proposed Action: By letter dated October 18, 2002, PGE requested an amendment to revise the license (SNM-2509) and the TS of SNM-2509 for the Trojan ISFSI. The changes would increase the MPC helium backfill upper pressure limit, make an editorial clarification, and make similar changes to the helium backfill upper pressure limit in the description of the cask loading operations. The current license specifies the MPC is to be backfilled with helium with a pressure between 29.3 psig and 33.3 psig. The amendment requests the upper limit be changed from 33.3 psig to 39.3 psig.

Need for the Proposed Action: The proposed action is necessary to minimize worker exposure during spent fuel loading activities and to maintain spent fuel parameters within required limits. Current helium backfill equipment, to be used during loading operations at the Trojan facility, cannot demonstrate backfill of the MPC free volume with helium accurately enough to satisfy TS requirements. Alternative equipment that could provide the necessary accuracy would result in protracted helium backfilling operations and increased worker dose. In either case MPC helium backfilling operations using the current equipment and/or alternative equipment would pose undue exposure risk to plant personnel and result in extended fuel loading schedules and subsequent delays in decommissioning of the Trojan site.

Environmental Impacts of the Proposed Action: In 1999 the NRC issued a license to PGE to construct and operate the Trojan ISFSI. Prior to this action the NRC examined the environmental impacts of constructing and operating the Trojan ISFSI and issued an environmental assessment and finding of no significant impact (See 61 FR 64378, December 4, 1996). The NRC has completed its evaluation of the proposed action and concludes that granting the request for amendment to increase the TS MPC helium backfill upper pressure limit from 33.3 psig to 39.3 psig will not increase the probability or consequence of accidents beyond that bounded by previous analysis. No changes are being made in the types of any effluents that may be released offsite. With regard to radiological impacts, the increase in the TS MPC helium backfill upper pressure limit will not yield an increase in neutron and gamma dose rates at the cask surface. Dose rates remain below regulatory limits for occupational exposures and public radiation exposures and continue to comply with the applicable regulatory criteria specified in 10 CFR part 20, and 10 CFR 72.104 and 72.106. As a result, there are no significant radiological environmental impacts associated with the proposed action.

The amendment only affects the requirements associated with MPC helium backfilling operations and does not affect non-radiological plant effluents or any other aspects of the environment. Therefore, there are no significant non-radiological environmental impacts associated with the proposed action.

Accordingly, the Commission concludes that there are no significant environmental impacts associated with the proposed action.

Alternatives to the Proposed Action: The alternative to the proposed action would be to deny the request for amendment (i.e., the “no-action” alternative). Denial of the proposed action would result in PGE continuing to use current MPC helium backfill limits established in the TS. Without an increase in the MPC helium backfill upper pressure TS limit, decommissioning of the Trojan site could be delayed. The Trojan Nuclear Power Plant has been permanently shut down. Delaying decommissioning of the Trojan site could potentially lead to greater occupational exposure due to the extended time workers would be in the proximity of the spent fuel. The environmental impacts of the alternative action could be greater than the proposed action.

Given that the alternative action of denying the approval for amendment has no lesser environmental impacts associated with it, and considering that the proposed action would result in storage of fuel at the Trojan ISFSI, which has already been approved under a site specific license, the Commission concludes that the preferred alternative is to grant this amendment.

Agencies and Persons Consulted: On November 14, 2002, Mr. Adam Bless of the Oregon Office of Energy, Energy Resource Division, was contacted regarding the proposed action and had no comments.

Finding of No Significant Impact

The environmental impacts of the proposed action have been reviewed in accordance with the requirements set forth in 10 CFR part 51. Based upon the foregoing Environmental Assessment, the Commission finds that the proposed action of granting an amendment to change the MPC helium backfill upper pressure limit will not significantly impact the quality of the human environment. Accordingly, the Commission has determined not to prepare an environmental impact statement for the proposed amendment.

For further details with respect to this amendment, see the PGE letter dated October 18, 2002. The amendment request was docketed per 10 CFR part 2 under Docket 72-17. The NRC maintains an Agencywide Documents Access and Management System (ADAMS), which provides text and image files of NRC's public documents. These documents may be accessed through the NRC's Public Electronic Reading Room on the Internet at http://www.nrc.gov/reading-rm-adams.html. If you do not have access to ADAMS or if there are problems in accessing the documents listed in ADAMS, contact the NRC Public Document Room (PDR) Reference staff at 1-800-397-4209, 301-415-4737 or by e-mail to pdr@nrc.gov.

Dated at Rockville, Maryland this 3rd day of December, 2002.

For the Nuclear Regulatory Commission:
Christopher M. Regan,
Project Manager, Spent Fuel Project Office, Office of Nuclear Material Safety and Safeguards.

[FR Doc. 02-31166 Filed 12-9-02; 8:45 am]

BILLING CODE 7590-01-P